DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Spokane, Washington, and Portland and Gresham, Oregon. The purpose of this notice is to announce publicly the environmental decisions by FTA on the subject projects and to activate the limitation on any claims that may challenge these final environmental actions.

DATES: By this notice, FTA is advising the public of final agency actions subject to 23 U.S.C. 139(l). A claim seeking judicial review of FTA actions announced herein for the listed public transportation projects will be barred unless the claim is filed on or before October 7, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA environmental project file for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The projects and actions that are the subject of this notice are:

1. Project name and location. Central City Line Project, Spokane, Washington. Project Sponsor: Spokane Transit Authority (STA). Project description: The project will provide a new 5.8-mile bus rapid transit system consisting of 34 stations that connect major destinations in Spokane, Washington, including the Central Business District, the University District, Gonzaga University, and Spokane Community College along with residential neighborhoods and will include the purchase of ten (10) new vehicles. Nothing in this notice affects FTA's previous decisions, or notice thereof, for this project. Final agency actions: Section 4(f) exception and Section 4(f) de minimis impact determination; Section 106 finding of no adverse effect concurrence dated July 9, 2018; and determination of the applicability of a Categorical Exclusion pursuant to 23 CFR 771.118(d), dated March 7, 2019. Supporting documentation: Documented Categorical Exclusion checklist and supporting materials, dated March 2019.

2. Project name and location: Division Transit Project, Portland and Gresham, Oregon. Project sponsors: Metro and TriMet. Project description: The project will provide approximately 15-mile of a new bus rapid transit route between downtown Portland and downtown Gresham. The project also includes 42 stations, articulated buses and station configurations, pedestrian improvements, bicycle access, and accessibility improvements, signal and safety improvements, and a new bus layover facility within the existing Cleveland Park-and- Ride Lot. This notice only applies to the discrete actions taken by FTA at this time, as described below. Nothing in this notice affects FTA's previous decisions, or notice thereof, for this project. Final agency actions: Section 4(f) exception and Section 4 (f) de minimis impact determination; Section 106 finding of no adverse effect concurrence dated February 22, 2019; and determination of the applicability of a Categorical Exclusion pursuant to 23 CFR 771.118(d), dated March 13, 2019. Supporting documentation: Documented Categorical Exclusion checklist and supporting materials, dated March 2019.

Dwayne E. Weeks,
Director, Office of Planning.

[FR Doc. 2019-09399 Filed 5-7-19; 8:45 am]

BILLING CODE P